FEDERAL HOUSING FINANCE BOARD

Sunshine Act Meeting Notice; Announcing a Partially Open Meeting of the Board of Directors

TIME AND DATE: The open meeting of the Board of Directors is scheduled to begin at 10 a.m. on Wednesday, October 11, 2006. The closed portion of the meeting will follow immediately the open portion of the meeting.

PLACE: Board Room, First Floor, Federal Housing Finance Board, 1625 Eye Street, NW., Washington, DC 2006.

STATUS: The first portion of the meeting will be open to the public. The final portion of the meeting will be closed to the public.

MATTERS TO BE CONSIDERED AT THE OPEN PORTION:

Appointments to the Financing Corporation (FICO) Directorate.

Enhancing Protections for Personally Identifiable Information.

Modification of Data Reporting Requirements for the Call Report System.

Amendment to the Capital Structure Plan of the Federal Home Loan Bank of Seattle.

MATTER TO BE CONSIDERED AT THE CLOSED PORTION:

Periodic Update of Examination Program Development and Supervisory Findings.

CONTACT PERSON FOR MORE INFORMATION: Sheila Willis, Paralegal Specialist, Office of General Counsel, at 202-408-2876 or williss@fhfb.gov.

Dated: October 4, 2006.
By the Federal Housing Finance Board.
John P. Kennedy,
General Council.

[FR Doc. 06-8582 Filed 10-4-06; 3:55 pm]

BILLING CODE 6725-01-P